DEPARTMENT OF DEFENSE

Department of the Army

[Docket ID: USA-2014-0049]

Proposed Collection; Comment Request

AGENCY: Army & Air Force Exchange Service (Exchange), DoD.

ACTION: Notice.

SUMMARY: In compliance with the Paperwork Reduction Act of 1995, the Army & Air Force Exchange Service announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by March 3, 2015.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Army and Air Force Exchange Service, Office of the General Counsel, Compliance Division, Attn: Teresa Schreurs, 3911 South Walton Walker Blvd., Dallas, TX 75236-1598 or call the Exchange Compliance Division at 800-967-6067.

SUPPLEMENTARY INFORMATION: Title; Associated Form; and OMB Number: Exchange Personnel Management and Payroll Systems; Exchange Form 1450-001 “Retirement Processing Checklist”, Exchange Form 1700-110 “Group Health Benefits Continuation Application”, Exchange Form 1100-012 “Promissory Note”, Exchange Form 1200-006 “Pre-Employment Screening Applicant Consent Form”, Exchange Form 1700-117 “Conversion of Group Term Life Insurance”; OMB Control Number: 0702-XXXX.

Needs And Uses: The information collection requirement is necessary to provide a basis for computing civilian pay entitlements, maintaining a record of the history of pay transactions, and to provide health and retirement benefits to the appropriate individual. Information is collected through new employment orientation which may include the name of the individual (i.e. family member or dependent) SSN, home address, phone number, marital status, sex, security clearance, military status, pay status and rank, tax exemptions authorized deductions, and choices of retirement and health insurance. Additional information is obtained from court ordered documents such as Qualifying Domestic Relations Orders which require the Exchange to pay retirement benefits to ex-spouse or other dependents. This collection is necessary to accurately accrue civilian's correct leave, benefits, retirement and pay, issue bonds, pay taxes, and to keep the Exchange compliant with court orders and the ability to answer any inquires to process such claims. In addition, the information is used to produce reports and statistical analyses of the civilian workforce to verify employment, provide data in support of Equal Employment Opportunity Programs, provide the Exchange with emergency contact information, responses to union requests, establish training requirements, provide projected staffing requirements, provide data for retirement processing, corrective actions, grievances and appeals, provide incentive awards, fill positions, determinations of medical qualifications, counsel employees on career development, plan dependent services in overseas areas, determine validity of individual claims related to pay adjustments and for other managerial and statistical studies, records and reports.

Affected Public: Employee family members, former spouses and other employee dependents.

Annual Burden Hours: 208,000 Hours.

Number of Respondents: 260,000.

Responses per Respondent: 3.2.

Average Burden per Response: 15 minutes.

Frequency: Daily.

Respondents are dependents, including ex-spouses and/or Exchange personnel who are terminated or retired. Information is obtained from the Exchange personnel either prior to being employed, during active duty or after they have ended employment with the Exchange. Information is submitted to the Exchange primarily through electronic means so the Exchange may pay appropriately for time and accurately provide individuals with health and retirement benefits.

Dated: December 29, 2014.
Aaron Siegel,
Alternate OSD Federal Register Liaison Officer, Department of Defense.

[FR Doc. 2014-30732 Filed 12-31-14; 8:45 am]

BILLING CODE 5001-06-P